DEPARTMENT OF DEFENSE

Defense Acquisition Regulations System

48 CFR Parts 202 and 252

Defense Federal Acquisition Regulation Supplement; Technical Amendments

AGENCY: Defense Acquisition Regulations System, Department of Defense (DoD).

ACTION: Final rule.

SUMMARY: DoD is making technical amendments to the Defense Federal Acquisition Regulation Supplement (DFARS) to update the list of Air Force contracting activities and paragraph numbering.

DATES: Effective Date: July 29, 2009.

FOR FURTHER INFORMATION CONTACT: Ms. Michele Peterson, Defense Acquisition Regulations System, OUSD (AT&L) DPAP (DARS), IMD 3D139, 3062 Defense Pentagon, Washington, DC 20301-3062. Telephone 703-602-0311; facsimile 703-602-7887.

SUPPLEMENTARY INFORMATION: This final rule amends DFARS text as follows:

○ 202.101. Updates the list of Air Force contracting activities.

○ 252.225-7036. Updates a paragraph designation in Alternate I for consistency with the corresponding paragraph in the basic clause.

List of Subjects in 48 CFR Parts 202 and 252

Government procurement.

Michele P. Peterson,
Editor, Defense Acquisition Regulations System.

Therefore, 48 CFR parts 202 and 252 are amended as follows:

1. The authority citation for 48 CFR parts 202 and 252 continues to read as follows:

Authority: 41 U.S.C. 421 and 48 CFR Chapter 1.

PART 202—DEFINITIONS OF WORDS AND TERMS

2. Section 202.101 is amended in the definition of “Contracting activity” by revising the list with the heading “AIR FORCE” to read as follows:

202.101 Definitions.

* * * * *

Contracting activity * * *

AIR FORCE

Office of the Assistant Secretary of the Air Force (Acquisition)

Office of the Deputy Assistant Secretary (Contracting)

Air Force Materiel Command

Air Force Reserve Command

Air Combat Command

Air Mobility Command

Air Education and Training Command

Pacific Air Forces

United States Air Forces in Europe

Air Force Space Command

Air Force District of Washington

Air Force Operational Test & Evaluation Center

Air Force Special Operations Command

United States Air Force Academy

Aeronautical Systems Center

Air Armament Center

Electronic Systems Center

Space and Missile Systems Center

* * * * *

PART 252—SOLICITATION PROVISIONS AND CONTRACT CLAUSES

252.225-7036 [Amended]

3. Section 252.225-7036 is amended as follows:

a. By revising the Alternate I date to read “(JUL 2009)”;

b. In Alternate I introductory text by removing “(a)(4) and (c) for paragraphs (a)(4)” and adding in its place “(a)(8) and (c) for paragraphs (a)(8)”; and

c. In Alternate I by redesignating paragraph (a)(4) as paragraph (a)(8).

[FR Doc. E9-17948 Filed 7-28-09; 8:45 am]

BILLING CODE 5001-08-P